DEPARTMENT OF ENERGY

Federal Energy Regulatory Commission

[Docket No. EL20-65-000]

New York Independent System Operator, Inc.; Notice of Petition for Declaratory Order

Take notice that on August 18, 2020, pursuant to Rule 207 of the Federal Energy Regulatory Commission's (Commission) Rules of Practice and Procedure, 18 CFR 385.207 (2019), New York Independent System Operator, Inc (Petitioner), hereby submits a petition for declaratory order seeking confirmation that Transmission Owners in New York possess a federal right of first refusal to build, own, and recover the costs of upgrades to their transmission facilities that is permitted under Order No. 1000,¹ as more fully explained in the petition.

¹ See Transmission Planning and Cost Allocation by Transmission Owning and Operating Public Utilities, Order No. 1000, 136 FERC ¶ 61,051 (2011) (Order No. 1000), order on reh'g and clarification, Order No. 1000-A, 139 FERC ¶ 61,132 (2012) (Order No. 1000-A), order on reh'g and clarification, 141 FERC ¶ 61,044 (2012) (Order No. 1000-B). For convenience, unless otherwise specified, references in this filing to Order No. 1000 should be understood to encompass Order Nos. 1000, 1000-A, and 1000-B.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern time on September 17, 2020.

Dated: August 19, 2020.
Nathaniel J. Davis, Sr.,
Deputy Secretary.

[FR Doc. 2020-18605 Filed 8-24-20; 8:45 am]

BILLING CODE 6717-01-P